DEPARTMENT OF STATE

[Public Notice: 11846]

U.S. Advisory Commission on Public Diplomacy Notice of Meeting

The U.S. Advisory Commission on Public Diplomacy (ACPD) will hold an in-person public meeting with optional online viewing on Friday, September 23, 2022, from 12:00 p.m. until 1:15 p.m. During the meeting, a panel of policy and academic experts will discuss public diplomacy efforts to counter disinformation effects in sub-Saharan Africa.

This meeting is open to the public, including the media and members and staff of governmental and non-governmental organizations. The event will take place at the International Student House of Washington DC at 1825 R St. NW, Washington, DC. Please register for the in-person event here: https://www.eventbrite.com/e/pd-approaches-to-countering-disinformation-in-sub-saharan-africa-tickets-400075385247. Doors will open at 11:30 a.m. There will be an option to view the event virtually by accessing the Zoom link in the Eventbrite invitation.

To request reasonable accommodation, please email ACPD Program Assistant Kristy Zamary at ZamaryKK@state.gov. Please send any request for reasonable accommodation no later than September 12, 2022. Requests received after that date will be considered but might not be possible to fulfill.

Since 1948, the ACPD has been charged with appraising activities intended to understand, inform, and influence foreign publics and to increase the understanding of, and support for, these same activities. The ACPD conducts research that provides honest assessments of public diplomacy efforts, and disseminates findings through reports, white papers, and other publications. It also holds public symposiums that generate informed discussions on public diplomacy issues and events. The Commission reports to the President, Secretary of State, and Congress and is supported by the Office of the Under Secretary of State for Public Diplomacy and Public Affairs.

For more information on the U.S. Advisory Commission on Public Diplomacy, please visit https://www.state.gov/bureaus-offices/under-secretary-for-public-diplomacy-and-public-affairs/united-states-advisory-commission-on-public-diplomacy/, or contact Executive Director Vivian S. Walker at WalkerVS@state.gov or Senior Advisor Deneyse Kirkpatrick at kirkpatrickda2@state.gov.

Vivian S. Walker,
Executive Director, U.S. Advisory Commission on Public Diplomacy, Department of State.

[FR Doc. 2022-19083 Filed 9-1-22; 8:45 am]

BILLING CODE 4710-45-P